DEPARTMENT OF THE INTERIOR

National Park Service

[NPS-WASO-NAGPRA-NPS0030269; PPWOCRADN0-PCU00RP14.R50000]

Notice of Inventory Completion: University of North Carolina at Chapel Hill, Research Laboratories of Archaeology, Chapel Hill, NC

AGENCY: National Park Service, Interior.

ACTION: Notice.

SUMMARY: The University of North Carolina at Chapel Hill, Research Laboratories of Archaeology has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the University of North Carolina at Chapel Hill, Research Laboratories of Archaeology. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the University of North Carolina at Chapel Hill, Research Laboratories of Archaeology at the address in this notice by July 10, 2020.

ADDRESSES: Dr. C. Margaret Scarry, Research Laboratories of Archaeology, University of North Carolina, Campus Box 3120, Chapel Hill, NC 27599-3120, telephone (919) 962-6574, email scarry@email.unc.edu.

SUPPLEMENTARY INFORMATION: Notice is here given in accordance with the Native American Graves Protection and Repatriation Act (NAGPRA), 25 U.S.C. 3003, of the completion of an inventory of human remains under the control of the University of North Carolina at Chapel Hill, Research Laboratories of Archaeology, Chapel Hill, NC. The human remains were removed from: Jaketown Site (22 HU 505), Humphreys County, MS; and Lake George Site (22 YZ 557), Yazoo County, MS.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the University of North Carolina at Chapel Hill, Research Laboratories of Archaeology professional staff in consultation with representatives of the Alabama-Coushatta Tribe of Texas (previously listed as Alabama-Coushatta Tribes of Texas); Coushatta Tribe of Louisiana; Jena Band of Choctaw Indians; Mississippi Band of Choctaw Indians; Quapaw Nation (previously listed as The Quapaw Tribe of Indians); The Chickasaw Nation; The Choctaw Nation of Oklahoma; and The Muscogee (Creek) Nation (hereafter referred to as “The Consulted Tribes”).

History and Description of the Remains

In 1963, human remains representing, at minimum, two individuals were removed from Jaketown site (22 HU 505) in Humphreys County, MS, by University of North Carolina at Chapel Hill, Research Laboratories of Archaeology archeologists Brian Egloff and Jeff Reid. The human remains (17 bone fragments collected from the site's surface) were transported to the University of North Carolina at Chapel Hill, Research Laboratories of Archaeology for cleaning and storage. No known individuals were identified. No associated funerary objects are present. These human remains most likely date to the Mississippian period (A.D. 1100-1600).

In 1963, human remains representing, at minimum, one individual were removed from Lake George site (22 YZ 557) in Yazoo County, MS, by University of North Carolina at Chapel Hill, Research Laboratories of Archaeology archeologists Brian Egloff and Jeff Reid. The human remains (18 bone fragments collected from the site's surface) were transported to the University of North Carolina at Chapel Hill, Research Laboratories of Archaeology for cleaning and storage. No known individual was identified. No associated funerary objects are present. These human remains most likely date to the Mississippian period (A.D. 1100-1600).

Determinations Made by the University of North Carolina at Chapel Hill, Research Laboratories of Archaeology

Officials of the University of North Carolina at Chapel Hill, Research Laboratories of Archaeology have determined that:

• Pursuant to 25 U.S.C. 3001(9), the human remains described in this notice are Native American based on their physical association with Native American cultural materials and occurrence at Native American archeological sites.

• Pursuant to 25 U.S.C. 3001(9), the human remains described in this notice represent the physical remains of three individuals of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Mississippi Band of Choctaw Indians and The Choctaw Nation of Oklahoma.

• Treaties, Acts of Congress, or Executive Orders indicate that the land from which the Native American human remains were removed is the aboriginal land of the Mississippi Band of Choctaw Indians and The Choctaw Nation of Oklahoma.

• Pursuant to 43 CFR 10.11(c)(1), the disposition of the human remains may be to the Mississippi Band of Choctaw Indians and The Choctaw Nation of Oklahoma.

Additional Requestors and Disposition

Representatives of any Indian Tribe or Native Hawaiian organization not identified in this notice that wish to request transfer of control of these human remains should submit a written request with information in support of the request to Dr. C. Margaret Scarry, Research Laboratories of Archaeology, University of North Carolina, Campus Box 3120, Chapel Hill, NC 27599-3120, telephone (919) 962-6574, email scarry@email.unc.edu, by July 10, 2020. After that date, if no additional requestors have come forward, transfer of control of the human remains to the Mississippi Band of Choctaw Indians and The Choctaw Nation of Oklahoma may proceed.

The University of North Carolina at Chapel Hill, Research Laboratories of Archaeology is responsible for notifying The Consulted Tribes that this notice has been published.

Dated: May 4, 2020.
Melanie O'Brien,
Manager, National NAGPRA Program.

[FR Doc. 2020-12550 Filed 6-9-20; 8:45 am]

BILLING CODE 4312-52-P